DEPARTMENT OF STATE

[Public Notice: 11026]

Overseas Security Advisory Council (OSAC) Meeting

ACTION: Notice of closed meeting.

SUMMARY: The Department of State announces meetings of the U.S. State Department's Overseas Security Advisory Council on February 28, June 3, and November 17, 2020. Pursuant to Section 10(d) of the Federal Advisory Committee Act, it has been determined that the meetings will be closed to the public. The meetings will focus on an examination of corporate security policies and procedures and will involve extensive discussion of trade secrets and proprietary commercial information that is privileged and confidential and will discuss law enforcement investigative techniques and procedures. The agendas will include updated committee reports, global threat overviews, and other matters relating to private sector security policies and protective programs and the protection of U.S. business information overseas.

FOR FURTHER INFORMATION CONTACT: Marsha Thurman, Overseas Security Advisory Council, U.S. Department of State, Washington, DC 20522-2008, phone: 571-345-2214.

Jason R. Kight,
Executive Director.

[FR Doc. 2020-02275 Filed 2-5-20; 8:45 am]

BILLING CODE 4710-43-P